ENVIRONMENTAL PROTECTION AGENCY

[FRL-7021-9]

Proposed Settlement Agreement

AGENCY: Environmental Protection Agency (EPA).

ACTION: Notice of proposed settlement agreement; request for public comment.

SUMMARY: Notice of accordance with section 113(g) of the Clean Air Act, as amended, 42 U.S.C. 7413(g), notice is hereby given of a proposed settlement agreement in The Fertilizer Institute v. U.S. Environmental Protection Agency, No. 99-1317 (D.C. Cir.).

This case concerns a challenge to the rule entitled National Emission Standards for Hazardous Air Pollutants Phosphoric Acid Manufacturing and Phosphate Fertilizers Production, published in the Federal Register at 64 FR 31358 on June 10, 1999. The proposed settlement provides for EPA to propose revisions to the rule that would amend some of the emission standards and make other clarifications.

For a period of thirty (30) days following the date of publication of this notice, EPA will receive written comments relating to the settlement from persons who were not named as parties to the litigation in question. EPA or the Department of Justice may withhold or withdraw consent to the proposed settlement if the comments disclose facts or circumstances that indicate that such consent is inappropriate, improper, inadequate, or inconsistent with the requirements of the Act. Copies of the settlement are available from Samantha Hooks (202) 564-5569. Written comments should be sent to Patricia Embrey, Office of General Counsel (2344R), U.S. Environmental Protection Agency, 1200 Pennsylvania Avenue, NW., Washington, DC 20460, and must be submitted on or before August 31, 2001.

Dated: July 25, 2001.
Alan W. Eckert,
Associate General Counsel.

[FR Doc. 01-19161 Filed 7-31-01; 8:45 am]

BILLING CODE 6560-50-M